DEPARTMENT OF COMMERCE

National Oceanic and Atmospheric Administration

[RTID 0648-XE386]

Notice of Availability of a Final Programmatic Environmental Assessment on the Effects of Permitting Translocation of Sturgeon for Scientific Research and Enhancement Under Section 10(a)(1)(A) of the Endangered Species Act

AGENCY: National Marine Fisheries Service (NMFS), National Oceanic and Atmospheric Administration (NOAA), Commerce.

ACTION: Notice of availability of final programmatic environmental assessment and finding of no significant impact.

SUMMARY: NOAA has prepared a final programmatic environmental assessment (PEA) and Finding of No Significant Impact (FONSI) under the National Environmental Policy Act of 1969 (NEPA), as amended, analyzing the environmental impacts of the NMFS Office of Protected Resources (OPR) proposal to authorize directed take under the sturgeon Endangered Species Act (ESA) permitting program for the translocation of shortnose (Acipenser brevirostrum) and Atlantic (A. oxyrinchus oxyrinchus) sturgeons for research and enhancement purposes. Based on its finding of no significant impact, NMFS has determined that an environmental impact statement need not be prepared.

FOR FURTHER INFORMATION CONTACT: Erin Markin, Ph.D., erin.markin@noaa.gov, (301) 427-8416; Malcolm Mohead, malcolm.mohead@noaa.gov, (301) 427-8427.

SUPPLEMENTARY INFORMATION:

Background

This final PEA analyzes the potential impacts on the natural and human environments for the authorization of directed take of sturgeon by translocation, in scientific research or enhancement permits under section 10(a)(1)(A) of the ESA, to achieve recovery objectives. For the purposes of the sturgeon permitting program, translocation is the intentional capture, holding, handling, transport, and release of individuals within a river system (e.g., translocation of fish across a dam or fish passage) or between river systems within the U.S. historical range of Atlantic and shortnose sturgeon (i.e., Maine to Florida). Under the Proposed Action, NMFS would authorize directed take for the translocation of ESA-listed Atlantic and shortnose sturgeon as a research or enhancement activity to support sturgeon conservation management and recovery objectives. NMFS would authorize translocation concurrent with additional research or enhancement activities, if the research or enhancement activity's objectives are (1) stated as a term and condition to implement reasonable and prudent measures of an active biological opinion, (2) an identified objective in a NMFS recovery outline or recovery plan for the species, or (3) determined necessary by NMFS Regional Offices and the NMFS OPR to recover the species. Programmatic NEPA reviews add value and efficiency to the decision making process when they inform the scope of decisions and subsequent tiered NEPA reviews. Therefore, NMFS decided that completing a PEA for the proposed action was appropriate.

NMFS published a Notice of Availability of the draft PEA in the Federal Register on December 27, 2023 (88 FR 89385) beginning a 30-day public comment period. NMFS considered the public comments received on the draft PEA and has responded to comments in appendix 1 of the final PEA.

After publishing the draft PEA for public comment, NMFS identified one additional sampling method that was inadvertently left out of the draft PEA. Epidermal mucus sampling was found to be consistent with an existing category of activities that normally do not have a significant effect on the human environment, and therefore do not require preparation of an environmental assessment or environmental impact statement (40 CFR 1501.4). NMFS incorporated this additional method into the final PEA which resulted in no changes to the impact determinations. Additional information is located in section 1.2.1 of the final PEA.

The PEA and FONSI have been prepared in compliance with NEPA of 1969, as amended (42 U.S.C. 4321, et seq.), the 2020 Council on Environmental Quality Regulations (40 CFR 1500-1508) as modified by the Phase 1 2022 revisions, and NOAA policy and procedures (NOAA Administrative Order 216-6A and its Companion Manual). The final PEA and FONSI may be downloaded or viewed at: https://www.fisheries.noaa.gov/action/draft-environmental-assessment-permitting-translocation-sturgeon-scientific-research-and.

Dated: October 25, 2024.
Amy Sloan,
Acting Chief, Permits and Conservation Division, Office of Protected Resources, National Marine Fisheries Service.

[FR Doc. 2024-25214 Filed 10-29-24; 8:45 am]

BILLING CODE 3510-22-P